Executive Order 14277 of April 23, 2025

Advancing Artificial Intelligence Education for American Youth

By the authority vested in me as President by the Constitution and the laws of the United States of America, it is hereby ordered:

Section 1. Background. Artificial intelligence (AI) is rapidly transforming the modern world, driving innovation across industries, enhancing productivity, and reshaping the way we live and work. To ensure the United States remains a global leader in this technological revolution, we must provide our Nation's youth with opportunities to cultivate the skills and understanding necessary to use and create the next generation of AI technology. By fostering AI competency, we will equip our students with the foundational knowledge and skills necessary to adapt to and thrive in an increasingly digital society. Early learning and exposure to AI concepts not only demystifies this powerful technology but also sparks curiosity and creativity, preparing students to become active and responsible participants in the workforce of the future and nurturing the next generation of American AI innovators to propel our Nation to new heights of scientific and economic achievement.

To achieve this vision, we must also invest in our educators and equip them with the tools and knowledge to not only train students about AI, but also to utilize AI in their classrooms to improve educational outcomes. Professional development programs focused on AI education will empower educators to confidently guide students through this complex and evolving field. Educators, industry leaders, and employers who rely on an AI-skilled workforce should partner to create educational programs that equip students with essential AI skills and competencies across all learning pathways. While AI education in kindergarten through twelfth grade (K-12) is critical, our Nation must also make resources available for lifelong learners to develop new skills for a changing workforce. By establishing a strong framework that integrates early student exposure with comprehensive teacher training and other resources for workforce development, we can ensure that every American has the opportunity to learn about AI from the earliest stages of their educational journey through postsecondary education, fostering a culture of innovation and critical thinking that will solidify our Nation's leadership in the AI-driven future.

Sec. 2. Policy. It is the policy of the United States to promote AI literacy and proficiency among Americans by promoting the appropriate integration of AI into education, providing comprehensive AI training for educators, and fostering early exposure to AI concepts and technology to develop an AI-ready workforce and the next generation of American AI innovators.

Sec. 3. Definition. For the purposes of this order, “artificial intelligence” or “AI” has the meaning set forth in 15 U.S.C. 9401(3).

Sec. 4. Establishing an Artificial Intelligence Education Task Force. (a) There is hereby established the White House Task Force on Artificial Intelligence Education (Task Force).

(b) The Director of the Office of Science and Technology Policy shall be the Chair of the Task Force.

(c) The Task Force membership shall consist of the following members:

(i) the Secretary of Agriculture;

(ii) the Secretary of Labor;

(iii) the Secretary of Energy;

(iv) the Secretary of Education;

(v) the Director of the National Science Foundation (NSF);

(vi) the Assistant to the President for Domestic Policy;

(vii) the Special Advisor for AI & Crypto;

(viii) the Assistant to the President for Policy; and

(ix) the heads of other such executive departments and agencies (agencies) and offices that the Chair may designate or invite to participate.

(d) The Task Force shall be responsible for implementing the policy stated in section 2 of this order and coordinating Federal efforts related to AI education, including the actions outlined in this order.

Sec. 5. Establishing the Presidential Artificial Intelligence Challenge. (a) Within 90 days of the date of this order, the Task Force shall establish plans for a Presidential Artificial Intelligence Challenge (Challenge), and the agencies represented on the Task Force shall, as appropriate and consistent with applicable law, implement the plans by holding the Challenge no later than 12 months from the submission of the plan. The Challenge shall encourage and highlight student and educator achievements in AI, promote wide geographic adoption of technological advancement, and foster collaboration between government, academia, philanthropy, and industry to address national challenges with AI solutions.

(b) The Challenge shall feature multiple age categories, distinct geographic regions for competition, and a variety of topical themes of competition to reflect the breadth of AI applications, encouraging interdisciplinary exploration.

(c) The Task Force and, as appropriate, agencies represented on the Task Force shall collaborate with relevant agencies and private sector entities to provide technical expertise, resources, and promotional support for implementing the Challenge, including through existing funding vehicles.

Sec. 6. Improving Education Through Artificial Intelligence. (a) To provide resources for K-12 AI education, agencies represented on the Task Force shall seek to establish public-private partnerships with leading AI industry organizations, academic institutions, nonprofit entities, and other organizations with expertise in AI and computer science education to collaboratively develop online resources focused on teaching K-12 students foundational AI literacy and critical thinking skills. The Task Force shall promptly announce such public-private partnerships on a rolling basis as they are formed.

(i) The Task Force shall seek to utilize industry commitments and identify any Federal funding mechanisms, including discretionary grants, that can be used to provide resources for K-12 AI education. To the extent practicable and as consistent with applicable law, agencies shall prioritize funding for such purposes when it would further the aims of the program for which funding is available.

(ii) The Task Force shall work to ensure the resources funded as described in subsection (i) of this section are ready for use in K-12 instruction within 180 days following the Task Force's formal announcement of the first slate of public-private partnerships.

(b) Within 90 days of the date of this order, the Task Force shall identify existing Federal AI resources on which agencies may rely, such as the NSF- and Department of Agriculture-sponsored National AI Research Institutes, to support partnerships with State and local educational agencies to improve AI education.

(c) Within 90 days of the date of this order, the Secretary of Education shall issue guidance regarding the use of formula and discretionary grant funds to improve education outcomes using AI, including but not limited to AI-based high-quality instructional resources; high-impact tutoring; and college and career pathway exploration, advising, and navigation.

(d) Within 90 days of the date of this order, the Secretary of Education shall identify and implement ways to utilize existing research programs to assist State and local efforts to use AI for improved student achievement, attainment, and mobility.

Sec. 7. Enhancing Training for Educators on Artificial Intelligence. (a) Within 120 days of the date of this order, the Secretary of Education shall take steps to prioritize the use of AI in discretionary grant programs for teacher training authorized by the Elementary and Secondary Education Act of 1965 (Public Law 89-10), as amended, and Title II of the Higher Education Act of 1965 (Public Law 89-329), as amended, including for:

(i) reducing time-intensive administrative tasks;

(ii) improving teacher training and evaluation;

(iii) providing professional development for all educators, so they can integrate the fundamentals of AI into all subject areas; and

(iv) providing professional development in foundational computer science and AI, preparing educators to effectively teach AI in stand-alone computer science and other relevant courses.

(b) Within 120 days of the date of this order, the Director of the NSF shall take steps to prioritize research on the use of AI in education. The Director of the NSF shall also utilize existing programs to create teacher training opportunities that help educators effectively integrate AI-based tools and modalities in classrooms.

(c) Within 120 days of the date of this order, the Secretary of Agriculture shall take steps to prioritize research, extension, and education on the use of AI in formal and non-formal education through 4-H and the Cooperative Extension System. The Secretary of Agriculture shall also utilize existing programs to create teacher and educator training opportunities that help effectively integrate AI-based tools and modalities into classrooms and curriculum.

Sec. 8. Promoting Registered Apprenticeships. (a) Within 120 days of the date of this order, the Secretary of Labor shall seek to increase participation in AI-related Registered Apprenticeships, including by:

(i) Prioritizing the development and growth of Registered Apprenticeships in AI-related occupations. The Secretary of Labor shall establish specific goals for growing Registered Apprenticeships in AI-related occupations across industries; and

(ii) Using apprenticeship intermediary contracts and allocating existing discretionary funds, as appropriate and consistent with applicable law, to engage industry organizations and employers and facilitate the development of Registered Apprenticeship programs in AI-related occupations. In doing so, the Secretary of Labor shall support the creation of industry-developed program standards to be registered on a nationwide basis, enabling individual employers to adopt the standards without requiring individual registry.

(b) Within 120 days of the date of this order, the Secretary of Labor shall encourage States and grantees to use funding provided under the Workforce Innovation and Opportunity Act (WIOA) (Public Law 113-128), as amended, to develop AI skills and support work-based learning opportunities within occupations utilizing AI by:

(i) issuing guidance to State and local workforce development boards encouraging the use of WIOA youth formula funds to help youth develop AI skills;

(ii) clarifying that States can use Governor set-asides to integrate AI learning opportunities into youth programs across the State; and

(iii) consistent with applicable law, establishing AI skills training and work-based learning as a grant priority in all Employment and Training Administration youth-focused discretionary grant programs.

(c) Within 120 days of the date of this order, the Secretary of Labor, through the Assistant Secretary of Labor for Employment and Training, and in collaboration with the Director of the NSF, shall engage with relevant State and local workforce development boards, industry organizations, education and training providers, and employers to identify and promote high-quality AI skills education coursework and certifications across the country. Through such engagement, the Secretary of Labor shall:

(i) identify applicable funding opportunities to expand access to high-quality AI coursework and certifications;

(ii) set performance targets for youth participation through any grants awarded for this purpose; and

(iii) utilize industry and philanthropic partnerships to the extent practicable.

(d) Within 120 days of the date of this order, and in consultation with the Secretary of Education and the Director of the NSF, the Secretary of Labor shall support the creation of opportunities for high school students to take AI courses and certification programs by giving priority consideration in awarding grants as appropriate and consistent with applicable law to providers that commit to use funds to develop or expand AI courses and certification programs. The Secretary of Labor and the Secretary of Education shall encourage recipients to build partnerships with States and local school districts to encourage those entities to consider offering high school students dual enrollment opportunities to take courses to earn postsecondary credentials and industry-recognized AI credentials concurrent with high school education.

(e) Within 120 days of the date of this order, all agencies that provide educational grants shall, as appropriate and consistent with applicable law, consider AI as a priority area within existing Federal fellowship and scholarship for service programs.

Sec. 9. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

April 23, 2025.

[FR Doc. 2025-07368

Filed 4-25-25; 8:45 am]

Billing code 3395-F4-P